DEPARTMENT OF HEALTH AND HUMAN SERVICES

National Institutes of Health

National Institute of Neurological Disorders and Stroke; Amended Notice of Meeting

Notice is hereby given of a change in the meeting of the National Advisory Neurological Disorders and Stroke Council, September 9, 2020, 12:30 p.m. to September 10, 2020, 01:00 p.m., National Institutes of Health, Neuroscience Center, Bethesda, MD 20892, which was published in the Federal Register on October 18, 2019, 84FR55974.

The meeting notice is amended to change the meeting format from in person to video assisted meeting and to change the meeting times each day. The new meeting times are Wednesday, September 9, 2020, from 1 p.m. to 5 p.m. (open session) and Thursday, September 10, 2020, from 1 p.m. to 5 p.m. (closed session). The meeting is partially Closed to the public.

Visit NINDS homepage for more information: https://www.ninds.nih.gov/News-Events/Events-Proceedings/Events/National-Advisory-Council-NANDSC-Meeting-September-2020.

Dated: July 21, 2020.
Tyeshia M. Roberson,
Program Analyst, Office of Federal Advisory Committee Policy.

[FR Doc. 2020-16184 Filed 7-24-20; 8:45 am]

BILLING CODE 4140-01-P